DEPARTMENT OF HEALTH AND HUMAN SERVICES

Centers for Disease Control and Prevention

Fees for Sanitation Inspections of Cruise Ships

AGENCY: Centers for Disease Control and Prevention (CDC), Department of Health and Human Services (HHS).

ACTION: Notice.

SUMMARY: This notice announces fees for vessel sanitation inspections for fiscal year 2004 (October 1, 2003, through September 30, 2004).

EFFECTIVE DATE: October 1, 2003.

FOR FURTHER INFORMATION CONTACT: David L. Forney, Chief, Vessel Sanitation Program, National Center for Environmental Health, Centers for Disease Control and Prevention (CDC), 4770 Buford Highway, NE., Mailstop F-16, Atlanta, Georgia 30341-3724, telephone (770) 488-7333, E-mail: Dforney@cdc.gov.

SUPPLEMENTARY INFORMATION:

Purpose and Background

The fee schedule for sanitation inspections of passenger cruise ships inspected under the Vessel Sanitation Program (VSP) was first published in the Federal Register on November 24, 1987 (52 FR 45019), and CDC began collecting fees on March 1, 1988. Since then, CDC has published the fee schedule annually. This notice announces fees effective October 1, 2003.

The formula used to determine the fees is as follows:

The average cost per inspection is multiplied by a size/cost factor to determine the fee for vessels in each size category. The size/cost factor was established in the proposed fee schedule published in the Federal Register on July 17, 1987 (52 FR 27060), and revised in a schedule published in the Federal Register on November 28, 1989 (54 FR 48942). The revised size/cost factor is presented in Appendix A.

Fee: The fee schedule (Appendix A) will be effective October 1, 2003, through September 30, 2004. The fee schedule, which became effective October 1, 2001, will remain the same in 2004. If travel expenses continue to increase, the fees may need adjustment before September 30, 2004, because travel constitutes a sizable portion of VSP's costs. If an adjustment is necessary, a notice will be published in the Federal Register 30 days before the effective date.

Applicability: The fees will apply to all passenger cruise vessels for which inspections are conducted as part of CDC's VSP.

The Director, Management Analysis and Services Office, has been delegated the authority to sign Federal Register notices pertaining to announcements of meetings and other committee management activities for both the Centers for Disease Control and Prevention and the Agency for Toxic Substances and Disease Registry.

Dated: August 18, 2003.
Diane C. Allen,
Acting Director, Management Analysis and Services Office, Centers for Disease Control and Prevention (CDC).

[FR Doc. 03-21513 Filed 8-21-03; 8:45 am]

BILLING CODE 4163-18-P